DEPARTMENT OF AGRICULTURE

Forest Service

Northwest Howell Project; Chequamegon-Nicolet National Forest, Forest and Florence Counties, Wisconsin

AGENCY: Forest Service, USDA.

ACTION: Notice; intent to prepare environmental impact statement.

SUMMARY: The Forest Service will prepare an environmental impact statement (EIS) to document the analysis and disclose the environmental impacts of proposed land management activities, and corresponding alternatives, within the Northwest Howell project area.

The purpose of the Northwest Howell project is to implement land management activities that are consistent with direction in the Nicolet National Forest Land and Resource Management Plan (Forest Plan) and respond to specific needs identified in the project area. The project-specific needs include addressing: forest age, structure and composition, reforestation, providing wood fiber and forest products, road closures, Pine River Wild River Corridor enhancements, and fish and wildlife habitat maintenance and improvement.

The Northwest Howell project area is located primarily on National Forest System lands, administered by the Eagle River-Florence Ranger District, surrounding Alvin, Wisconsin. The majority of the project area encompasses several management areas that emphasize maintaining a mix of forest types including early successional species, uneven-aged hardwoods and upland pines. Additionally, the project includes a management area that emphasizes protecting and enhancing the qualities of certain rivers that could be eligible for consideration as Federally designated Wild and Scenic Rivers. The Northwest Howell project contains a portion of the Pine River, which is designated by the State of Wisconsin as a State Wild River. The legal description for the project area is: Township 39 North, Range 14 East, Sections 2-4; Township 40 North, Range 12 East, Sections 11-14, 23-24; Township 40 North, Range 13E Sections 1-26; Township 40 North, Range 14 East, Sections 1-35; Township 41 North, Range 13 East, Sections 14, 15, 21-29, 32-36; and Township 41 North, Range 14 East, Sections 17-36, Township 40 North, Range 15 East, Section 6; and Township 41 North, Range 15 East, Sections 30-32 Fourth Principal Meridian.

DATES: Comments concerning the proposed land management activities should be received by June 15, 2001, to receive timely consideration in the preparation of the draft EIS.

ADDRESSES: Send written comments concerning the proposed land management activities or requests to be placed on the project mailing list to: E.B. Fitzpatrick III, District Ranger, Eagle River-Florence Ranger District, HC 1 Box 83, Florence, Wisconsin 54121.

FOR FURTHER INFORMATION CONTACT: Shirley Frank, Northwest Howell Project Leader, Eagle River-Florence Ranger District, HC 1 Box 83, Florence, Wisconsin 54121, phone (715) 528-4464 ext. 27.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the For Further Information Contact section.

Proposed Actions—The proposed land management activities (proposed actions) include the following, with approximate acreage and mileage values: Forest age, structure, and composition—selection harvest 6,108 acres, thin 800 acres, clearcut harvest 513 acres, overstory removal harvest 367 acres, and shelterwood harvest 127 acres (other actions needed include 1.9 miles of road construction and 23.6 miles of road reconstruction; Reforestation—prescribe burn 47 acres for natural regeneration of jack pine, hand-scalp and under-plant 200 acres of white pine, eastern hemlock, cedar and other species in the understories of existing stands, mechanical site preparation and planting of 68 acres of jack pine, temporarily fence 20 acres of under-planted areas, manual site preparation of 416 acres within aspen clearcuts and 147 acres of canopy gaps within selection harvests; Road Closures—close, allow to re-vegetate and remove from the Forest's inventoried road system 19.3 miles of roads; Fish and Wildlife Habitat Maintenance and Improvement—place approximately 75 whole tree structures along the shoreline and place about 40 crib structures near the shoreline of Steven's Lake, place approximately 50 whole tree structures along the shore line of Quartz Lake, place about 20 crib structures and 30 half-log structures within Quartz Lake, maintain 375 acres in existing permanent upland openings using by hand-cutting, mowing or burning, and plant fruit-bearing shrubs on approximately fifty percent of these sites.

Responsible Official—The District Ranger of the Eagle River-Florence Ranger District, E.B. Fitzpatrick III, is the Responsible Official for making project-level decisions from the project.

Decision Space—Decision-making will be limited to specific activities relating to the proposed actions. The primary decision to be made will be whether or not to implement the proposed actions or another action alternative that responds to the project's purpose and needs.

Preliminary Issues—Comments from Native American Indian tribes, the public, and other agencies were considered in identifying the following preliminary issues: effects to threatened, endangered, and sensitive species; effects to management indicator species, effects to wild and scenic river corridor characteristics; effects from road construction and road closures; effects to motorized recreational access.

Public Participation—The Forest Service is seeking comments from Federal, State, and local agencies, as well as local Native American tribes and other individuals or organizations that may be interested in or affected by the proposed actions. Comments received in response to this notice will become a matter of public record. While public participation is welcome at any time, comments on the proposed actions received by June 15, 2001, will be especially useful in the preparation of the draft EIS. Timely comments will be used to identify: potential issues with the proposed actions, alternatives to the proposed actions that respond to the identified needs and significant issues, and potential environmental effects of the proposed actions and alternatives considered in detail. In addition, the public is encouraged to contact and/or visit Forest Service officials at any time during the planning process.

Relation to Forest Plan Revision—The Chequamegon-Nicolet National Forest is in the process of revising and combining the existing Land and Resource Management Plans (Forest Plans) for the Chequamegon National Forest and the Nicolet National Forest, which were administratively separate at the time the Forest Plans were developed. A Notice of Intent to revise and combine the Forest Plans was issued in 1996. As part of this process, various inventories and evaluations are occurring. Additionally, the Forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Nicolet. Under regulations of the National Environmental Policy Act (40 CFR 1506.1), the Forest Service can take actions while work on a Forest Plan revision is in progress because a programmatic Environmental Impact Statement—the existing Forest Plan Final EIS, already supports the actions. The relationship of this project to the proposed FP revision will be considered as appropriate as part of this planning effort.

Estimated Dates for Filing—The draft EIS is expected to be filed with the Environmental Protection Agency and available for public review in December, 2001. A 45-day comment period will follow publication of a Notice of Availability of the draft EIS in the Federal Register. Comments received on the draft EIS will be used in preparation of the final EIS, expected in July, 2002. A Record of Decision (ROD) will also be issued at that time along with the publication of a Notice of Availability of the final EIS and ROD in the Federal Register.

Reviewer's Obligation to Comment—The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: April 18, 2001.
Lynn Roberts,
Forest Supervisor, Chequamegon-Nicolet National Forest.

[FR Doc. 01-10058 Filed 4-23-01; 8:45 am]

BILLING CODE 3410-11-U